DEPARTMENT OF COMMERCE

Foreign-Trade Zones Board

[S-138-2022]

Foreign-Trade Zone 167—Brown County, Wisconsin, Application for Subzone Burger Boat Company, Manitowoc, Wisconsin

An application has been submitted to the Foreign-Trade Zones (FTZ) Board by Brown County, Wisconsin, grantee of FTZ 167, requesting subzone status for the facility of Burger Boat Company, located in Manitowoc, Wisconsin. The application was submitted pursuant to the provisions of the Foreign-Trade Zones Act, as amended (19 U.S.C. 81a-81u), and the regulations of the FTZ Board (15 CFR part 400). It was formally docketed on August 8, 2022.

The proposed subzone (7.4 acres) is located at 1811 Spring Street, Manitowoc, Wisconsin. A notification of proposed production activity has been submitted and is being processed under 15 CFR 400.37 (Doc. B-30-2022). The proposed subzone would be subject to the existing activation limit of FTZ 167.

In accordance with the FTZ Board's regulations, Elizabeth Whiteman of the FTZ Staff is designated examiner to review the application and make recommendations to the Executive Secretary.

Public comment is invited from interested parties. Submissions shall be addressed to the FTZ Board's Executive Secretary and sent to: ftz@trade.gov. The closing period for their receipt is September 20, 2022. Rebuttal comments in response to material submitted during the foregoing period may be submitted during the subsequent 15-day period to October 5, 2022.

A copy of the application will be available for public inspection in the “Online FTZ Information Section” section of the FTZ Board's website, which is accessible via www.trade.gov/ftz.

For further information, contact Elizabeth Whiteman at Elizabeth.Whiteman@trade.gov.

Dated: August 8, 2022.
Andrew McGilvray,
Executive Secretary.

[FR Doc. 2022-17277 Filed 8-10-22; 8:45 am]

BILLING CODE 3510-DS-P